DEPARTMENT OF ENERGY

Federal Energy Regulatory Commission

[Project No. 2005]

Oakdale Irrigation District, South San Joaquin Irrigation District; Notice of Authorization for Continued Project Operation

January 6, 2005.

On December 23, 2002, Oakdale and South San Joaquin Irrigation Districts, licensees for the Beardsley/Donnells Project No. 2005, filed an application for a new or subsequent license pursuant to the Federal Power Act (FPA) and the Commission's regulations thereunder. Project No. 2005 is located on the Middle Fork of the Stanislaus River in Tuolumne County, California.

The license for Project No. 2005 was issued for a period ending December 31, 2004. Section 15(a)(1) of the FPA, 16 U.S.C. 808(a)(1), requires the Commission, at the expiration of a license term, to issue from year to year an annual license to the then licensee under the terms and conditions of the prior license until a new license is issued, or the project is otherwise disposed of as provided in section 15 or any other applicable section of the FPA. If the project's prior license waived the applicability of section 15 of the FPA, then, based on Section 9(b) of the Administrative Procedure Act, 5 U.S.C. 558(c), and as set forth at 18 CFR 16.21(a), if the licensees of such project have filed an application for a subsequent license, the licensees may continue to operate the project in accordance with the terms and conditions of the license after the minor or minor part license expires, until the Commission acts on their application. If the licensees of such a project have not filed an application for a subsequent license, then they may be required, pursuant to 18 CFR 16.21(b), to continue project operations until the Commission issues someone else a license for the project or otherwise orders disposition of the project.

If the project is subject to section 15 of the FPA, notice is hereby given that an annual license for Project No. 2005 is issued to Oakdale and South San Joaquin Irrigation Districts for a period effective January 1, 2005, through December 31, 2005, or until the issuance of a new license for the project or other disposition under the FPA, whichever comes first. If issuance of a new license (or other disposition) does not take place on or before January 1, 2006, notice is hereby given that, pursuant to 18 CFR 16.18(c), an annual license under section 15(a)(1) of the FPA is renewed automatically without further order or notice by the Commission, unless the Commission orders otherwise.

If the project is not subject to section 15 of the FPA, notice is hereby given that Oakdale and South San Joaquin Irrigation Districts are authorized to continue operation of the Beardsley/Donnells Project No. 2005 until such time as the Commission acts on their application for subsequent license.

Magalie R. Salas,
Secretary.

[FR Doc. E5-95 Filed 1-11-05; 8:45 am]

BILLING CODE 6717-01-P